DEPARTMENT OF THE INTERIOR

Fish and Wildlife Service

[FWS-R2-ES-2008-N0230; 20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before October 20, 2008.

ADDRESSES: Written comments should be submitted to the Chief, Endangered Species Division, Ecological Services, P.O. Box 1306, Room 6034, Albuquerque, New Mexico 87103. Documents and other information submitted with these applications are available for review, subject to the requirements of the Privacy Act and Freedom of Information Act. Documents will be available for public inspection, by appointment only, during normal business hours at the U.S. Fish and Wildlife Service, 500 Gold Ave., SW., Room 6034, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-122856

Applicant: George Myers, Buda, Texas.

Applicant requests an amendment to a current permit for research and recovery purposes to conduct presence/absence surveys of golden-cheeked warbler (Dendroica chryosparia) and black-capped vireo (Vireo atricapilla) within Texas, Oklahoma and Kansas.

Permit TE-187090

Applicant: Patricia Salas, Castle Hills, Texas.

Applicant requests a new permit for research and recovery purposes to conduct presence/absence surveys of golden-cheeked warbler (Dendroica chrysoparia) and black-capped vireo (Vireo atricapillus) within Texas.

Permit TE-188015

Applicant: Pueblo of Santa Ana-Natural Resources, Pueblo of Santa Ana, New Mexico.

Applicant requests a new permit for research and recovery purposes to conduct presence/absence surveys of the Rio Grande silvery minnow (Hybognathus amarus) on lands within the Pueblo of Santa Ana.

Permit TE-189566

Applicant: Monica Geick, Austin, Texas.

Applicant requests a new permit for research and recovery purposes to conduct presence/absence surveys of golden-cheeked warbler (Dendroica chrysoparia) and black-capped vireo (Vireo atricapillus) within Texas.

Permit TE-192229

Applicant: Krista McDermid, Buda, Texas.

Applicant requests a new permit for research and recovery purposes to conduct presence/absence surveys of the following species: Peck's Cave amphipod (Stygobromus peckii), Comal Spring dryopid beetle (Stygoparnus comalensis), Coffin Cave mold beetle (Batrisodes texanus), Helotes mold beetle (Batrisodes venyivi), Comal Springs riffle beetle (Heterelmis comalensis), ground beetle (Rhadine exilis), ground beetle (Rhadine infernalis), Tooth Cave ground beetle (Rhadine persephone), Robber Baron Cave meshweaver (Cicurina baronia), Madla Cave meshweaver (Cicurina venii), Braken Bat Cave mesheweaver (Cicurina venii), Government Canyon Bat Cave meshweaver (Cicurina vespera), Government Canyon Bat Cave spider (Neoleptoneta microps), Tooth Cave spider (Neoleptoneta myopica), Tooth Cave psuedoscorpion (Tartarocreagris texana), Bee Creek Cave harvestman (Texella reddelli), Bone Cave harvestman (Texella reyesii), and Robber Baron Cave harvestman (Texella cokendolpheri) within Texas.

Permit TE-192855

Applicant: Amnis Opes Institute, LLC. Albany, Oregon.

Applicant requests a new research and recovery permit to conduct presence/absence surveys of the following species: Gila chub (Gila intermedia), Rio Grande silvery minnow (Hybognathus amarus), Pecos gambusia (Gambusia nobilis), Colorado pikeminnow (Ptychocheilus lucius), razorback sucker (Xyrauchen texanus), Gila topminnow (Poeciliopsis occidentalis), and Yaqui topminnow (Poeciliopsis occidentalis sonoreiensis) within New Mexico and Arizona.

Authority: 16 U.S.C. 1531 et seq.

Dated: August 27, 2008.
Nancy J Gloman,
Regional Director, Southwest Region, Fish and Wildlife Service.

[FR Doc. E8-21923 Filed 9-18-08; 8:45 am]

BILLING CODE 4310-55-P